DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Chemical Weapons Convention Declaration and Report Handbook and Forms.

OMB Control Number: 0694-0091.

Form Number(s): Form 1-1, Form 1-2, Form 1-2A, Form 1-2B, etc.

Type of Request: Extension without change of a currently approved collection.

Burden Hours: 16,047.

Number of Respondents: 816.

Average Hours per Response: 30 minutes to 577 hours (depending on the required documentation).

Needs and Uses: This information is required for the United States to comply with the Chemical Weapons Convention (CWC), an international arms control treaty. The Chemical Weapons Convention Implementation Act of 1998 and Commerce Chemical Weapons Convention Regulations (CWCR) specify the rights, responsibilities and obligations for submission of declarations, reports and inspections.

Affected Public: Business or other for-profit organizations.

Frequency: Annually or on occasion.

Respondent's Obligation: Mandatory.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, via the Internet at Jasmeet_K._Seehra@omb.eop.gov or Fax to (202) 395-5167.

Dated: January 12, 2010.
Gwellnar Banks,
Management Analyst, Office of the Chief Information Officer.

[FR Doc. 2010-654 Filed 1-14-10; 8:45 am]

BILLING CODE 3510-33-P